DEPARTMENT OF DEFENSE

Department of the Air Force

HQ USAF Scientific Advisory Board

AGENCY: Department of the Air Force, DoD.

ACTION: Notice of meeting.

SUMMARY: Pursuant to Pub. L. 92-463, notice is hereby given of the forthcoming meeting of the Advisory Group Panel. The purpose of the meeting is to allow the SAB leadership to provide advice on Space Systems. Because classified and contractor-proprietary information will be discussed, this meeting will be closed to the public.

DATES: 1-2 April 2004.

ADDRESSES: Colorado Springs, CO.

Lt. Col. Nowack, Air Force Scientific Advisory Board Secretariat, 1180 Air Force Pentagon, Rm. 5D982, Washington, DC, 20330-1180, (703) 697-4811.

Pamela D. Fitzgerald,
Air Force Federal Register Liaison Officer.

[FR Doc. 04-7418 Filed 4-1-04; 8:45 am]

BILLING CODE 5001-05-P